NUCLEAR REGULATORY COMMISSION

[Docket No. 50-409; NRC-2019-0120]

LaCrosse Solutions, LLC; La Crosse Boiling Water Reactor, Vernon County, Wisconsin

AGENCY: Nuclear Regulatory Commission.

ACTION: Final environmental assessment and finding of no significant impact; issuance.

SUMMARY: The U.S. Nuclear Regulatory Commission (NRC) is considering an amendment to Possession Only License DPR-45 to add a license condition that reflects the NRC's approval of the license termination plan (LTP) for the La Crosse Boiling Water Reactor (LACBWR) and provides criteria for when prior NRC approval is needed to make changes to the LTP. The NRC has prepared a final environmental assessment (EA) and finding of no significant impact (FONSI) for this licensing action.

DATES: The final EA referenced in this document was available on May 6, 2019.

ADDRESSES: Please refer to Docket ID NRC-2019-0120 when contacting the NRC about the availability of information regarding this document. You may obtain publicly-available information related to this document using any of the following methods:

• Federal Rulemaking website: Go to http://www.regulations.gov and search for Docket ID NRC-2019-0120. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

FOR FURTHER INFORMATION CONTACT: Marlayna Vaaler, Office of Nuclear Material Safety and Safeguards, telephone: 301-415-3178, email: Marlayna.Vaaler@nrc.gov; U.S. Nuclear Regulatory Commission, Washington, DC 20555-0001.

SUPPLEMENTARY INFORMATION:

I. Introduction

In June 2016, LaCrosseSolutions, LLC (LS, the licensee) submitted a license amendment request, which included the LTP for LACBWR. The LTP was updated by LS in December 2016, May 2018, and November 2018. The NRC is considering amending Possession Only License DPR-45 to add a license condition that reflects the NRC's approval of the LTP and provides criteria for when prior NRC approval is needed to make changes to the LTP. As required by of title 10 of the Code of Federal Regulations (10 CFR) part 51, “Environmental Protection Regulations for Domestic Licensing and Related Regulatory Functions,” the NRC prepared a final EA. Based on the results of the final EA, as described in the following sections, the NRC has determined not to prepare an environmental impact statement (EIS) for the LACBWR LTP amendment, and is issuing a FONSI.

II. Environmental Assessment

Description of the Proposed Action

The proposed action is NRC review and approval of the LACBWR LTP. In its license amendment request, LS requested to add a license condition: (1) Reflecting the NRC staff's approval of the LTP and (2) providing criteria for when prior NRC approval is needed to make changes to the LTP. If the NRC approves the LTP, the approval will be issued in the form of an amendment to the LACBWR license to add the requested license condition.

The LACBWR LTP provides the details of the plan for characterizing, identifying, and remediating the remaining residual radioactivity at the LACBWR site to a level that will allow the site to be released for unrestricted use. The LACBWR LTP also describes how the licensee will confirm the extent and success of remediation through radiological surveys, provide financial assurance to complete decommissioning, and ensure the environmental impacts of the decommissioning activities are within the scope originally envisioned in the associated environmental documents. The LTP outlines the remaining decommissioning and dismantling activities; decommissioning activities at the LACBWR site are scheduled to be complete in 2019, with license termination occurring before the end of 2020.

Need for the Proposed Action

The purpose of and need for the proposed action is to allow for completion of decommissioning of the LACBWR site by the licensee, the termination of the LACBWR license by the NRC, and the subsequent release of the LACBWR site for unrestricted use. The NRC will terminate the license if it determines that the site meets the performance-based criteria for unrestricted site release, in accordance with 10 CFR 20.1402, “Radiological Criteria for Unrestricted Use,” and that the facility has been dismantled in accordance with the LTP.

Environmental Impacts of the Proposed Action

The NRC assessed the environmental impacts of the license termination activities and remaining decommissioning activities and determined there would be no significant impact to the quality of the human environment.

During its review of the LACBWR LTP, the NRC concluded the impacts for most resource areas—land use, air quality, ecology, socioeconomics, historic and cultural resources, aesthetics, noise, and transportation—were still bounded by the previously issued Decommissioning Generic Environmental Impact Statement (GEIS). Therefore, the NRC does not expect impacts beyond those discussed in the GEIS, which concluded that the impact level for these issues was SMALL.

In the EA associated with the LACBWR LTP, the NRC evaluated the potential site-specific environmental impacts of the remaining decommissioning and license termination activities on climate change, water resources, environmental justice, and waste management and did not identify any significant impacts. For protected species, the NRC determined that the proposed action may affect but not likely to adversely affect the Higgins eye pearlymussel (Lampsilis higginsii), the sheepnose mussel (Plethobasus cyphyus), and the northern long-eared bat (Myotis septentrionalis).

Environmental Impacts of the Alternatives to the Proposed Action

As an alternative to the proposed action, the NRC staff considered denial of the proposed action (i.e., the “no-action” alternative). Under the no-action alternative, the NRC would not approve the LACBWR LTP or the license amendment request because regulatory requirements have not been met. Consequently, the LACBWR license would not be terminated, decommissioning and other onsite maintenance and operational activities involving the storage of spent nuclear fuel would continue, and the remainder of the LACBWR site would not be released for unrestricted use. If the NRC was unable to approve the LACBWR LTP because the regulatory requirements were not met, then the licensee would have to take the necessary actions to ensure the regulations are met.

Agencies and Persons Consulted

On December 19, 2018, the NRC staff sent a copy of the draft EA associated with the LACBWR LTP to the Wisconsin Department of Health (WDHS) for review and comment. The WDHS responded on January 29, 2019, with no comment.

The NRC consulted with the U.S. Fish and Wildlife Service (FWS) on listed protected species at the LACBWR site. On December 20, 2018, the NRC requested FWS review and concurrence with the NRC's determination that the proposed action may affect, but is not likely to adversely affect three federally listed species. FWS concurred with the NRC's determination on January 30, 2019.

The NRC also made a determination that no historic properties would be affected, and on December 20, 2018, requested the Wisconsin State Historical Society's concurrence on the finding. The State Historical Society concurred with the NRC's finding on February 4, 2019.

III. Finding of No Significant Impact

Based on its review of the proposed action, and in accordance with the requirements in 10 CFR part 51, the NRC staff has determined that pursuant to 10 CFR 51.31, “Determinations based on environmental assessment,” preparation of an EIS is not required for the proposed action and, pursuant to 10 CFR 51.32, “Finding of no significant impact,” a FONSI is appropriate.

On the basis of the final EA, the NRC concludes that the proposed action will not have a significant effect on the quality of the human environment. Accordingly, the NRC has determined not to prepare an EIS for the proposed action.

IV. Availability of Documents

The documents identified in the following table are available to interested persons through one or more of the following methods, as indicated.

Document and date | ADAMS Accession Nos./weblink
License Amendment Request June 27, 2016 | ML16200A095.
Supplemented LTP December 1, 2016 | ML16347A026.
LTP Revision 1 May 31, 2018 | ML18169A271 ML18169A235.
LTP Final Consolidated November 15, 2018 | ML18331A023.
Final EA | ML19031B926.
NUREG-0586, Supplement 1 Decommissioning GEIS | https://www.nrc.gov/reading-rm/doc-collections/nuregs/staff/sr0586/.
Transmittal of Draft EA to WDHS December 19, 2018 | ML18354B000.
WDHS Comments on Draft EA January 29, 2019 | ML19031B159.
Transmittal of Draft EA to FWS December 19, 2018 | ML18351A258.
FWS Response January 30, 2019 | ML19031B157.
Transmittal of Draft EA to WSHS December 19, 2018 | ML18351A219.
WHS Response February 9, 2019 | ML19043A773.

Dated at Rockville, Maryland, on May 15, 2019.
For the Nuclear Regulatory Commission.
Andrew J. Pretzello,
Deputy Director, Division of Fuel Cycle Safety, Safeguards, and Environmental Review, Office of Nuclear Material Safety and Safeguards.

[FR Doc. 2019-10488 Filed 5-20-19; 8:45 am]

BILLING CODE 7590-01-P